DEPARTMENT OF TRANSPORTATION

Federal Aviation Administration

14 CFR Part 39

[Docket No. 99-NM-169-AD; Amendment 39-11570; AD 2000-03-11]

RIN 2120-AA64

Airworthiness Directives; McDonnell Douglas Model MD-11 Series Airplanes

AGENCY: Federal Aviation Administration, DOT.

ACTION: Final rule.

SUMMARY: This amendment adopts a new airworthiness directive (AD), applicable to certain McDonnell Douglas Model MD-11 series airplanes, that requires replacement of 10 amp circuit breakers with 5 amp circuit breakers in the left and right windshield anti-ice power controllers; and replacement of the anti-ice control panel with a new or modified panel, or modification and reidentification of the anti-ice control panel. This amendment is prompted by reports of smoke and sparks emanating from the anti-ice control panel in the cockpit. The actions specified by this AD are intended to prevent burnt internal circuit boards caused by a short in either the engine or airfoil anti-ice valve, or the windshield anti-ice controller, which could result in smoke in the cockpit.

DATES: Effective March 23, 2000.

The incorporation by reference of certain publications listed in the regulations is approved by the Director of the Federal Register as of March 23, 2000.

ADDRESSES: The service information referenced in this AD may be obtained from Boeing Commercial Aircraft Group, Long Beach Division, 3855 Lakewood Boulevard, Long Beach, California 90846, Attention: Technical Publications Business Administration, Dept. C1-L51 (2-60). This information may be examined at the Federal Aviation Administration (FAA), Transport Airplane Directorate, Rules Docket, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

FOR FURTHER INFORMATION CONTACT: Brett Portwood, Technical Specialist, Systems Safety and Integration, Systems and Equipment Branch, ANM-130L, FAA, Transport Airplane Directorate, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) to include an airworthiness directive (AD) that is applicable to certain McDonnell Douglas Model MD-11 series airplanes was published in the Federal Register on October 27, 1999 (64 FR 57818). That action proposed to require replacement of 10 amp circuit breakers with 5 amp circuit breakers in the left and right windshield anti-ice power controllers; and replacement of the anti-ice control panel with a new or modified panel, or modification and reidentification of the anti-ice control panel.

Comments

Interested persons have been afforded an opportunity to participate in the making of this amendment. Due consideration has been given to the comments received.

One commenter supports the proposed rule. Another commenter states that it has no objection to the proposed rule.

Conclusion

After careful review of the available data, including the comments noted above, the FAA has determined that air safety and the public interest require the adoption of the rule as proposed.

Cost Impact

There are approximately 130 airplanes of the affected design in the worldwide fleet. The FAA estimates that 41 airplanes of U.S. registry will be affected by this AD, that it will take approximately 3 work hours per airplane (if the anti-ice control panel is replaced) or 10 work hours per airplane (if the anti-ice control panel is modified and reidentified) to accomplish the required actions, and that the average labor rate is $60 per work hour. Honeywell has committed previously to its customers that it will bear the cost of replacement parts. As a result, the cost of those parts is not attributable to this AD. Based on these figures, the cost impact of the AD on U.S. operators is estimated to be between $7,380 and $24,600; or between $180 and $600 per airplane.

The cost impact figures discussed above are based on assumptions that no operator has yet accomplished any of the proposed requirements of this AD action, and that no operator would accomplish those actions in the future if this AD were not adopted. However, the FAA has been advised by Honeywell that warranty remedies are available for some of the labor costs associated with accomplishing the modification of the anti-ice control panel required by this AD. Therefore, the future economic cost impact of this rule on U.S. operators may be less than the cost impact figures indicated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-03-11 McDonnell Douglas: Amendment 39-11570. Docket 99-NM-169-AD.

Applicability: Model MD-11 series airplanes, as listed in McDonnell Douglas Alert Service Bulletin MD11-30A020, Revision 03, dated May 5, 1999, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent burnt internal circuit boards caused by a short in either the engine or airfoil anti-ice valve, or windshield anti-ice controller, which could result in smoke in the cockpit, accomplish the following:

Replacement and Modification

(a) Within 1 year after the effective date of this AD, replace the 10 amp circuit breakers with 5 amp circuit breakers in the left and right windshield anti-ice power controllers, and accomplish either paragraph (a)(1) or (a)(2) of this AD, in accordance with McDonnell Douglas Alert Service Bulletin MD11-30A020 Revision 03, dated May 5, 1999.

(1) Option 1. Replace the anti-ice control panel and return the panel to Honeywell Inc. for modification and reidentification in accordance with Option 1 of the service bulletin.

(2) Option 2. Modify and reidentify the anti-ice control panel in accordance with Option 2 of the service bulletin.

Note 2: Replacements, modifications, and reidentifications accomplished prior to the effective date of this AD in accordance with McDonnell Douglas Service Bulletin MD11-30-020, dated March 6, 1995; Revision 01, dated February 20, 1996; or Revision 02, dated August 25, 1997; are considered acceptable for compliance with the requirements of paragraph (a) of this AD.

Spares

(b) As of the effective date of this AD, no person shall install an anti-ice control panel, part number 4059030-901 or -902, on any airplane, unless it has been modified and reidentified as part number 4059030-911 or -912, in accordance with paragraph (a)(1) or (a)(2) of this AD.

Alternative Methods of Compliance

(c) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with McDonnell Douglas Alert Service Bulletin MD11-30A020 Revision 03, dated May 5, 1999. This incorporation by reference was approved by the Director of the Federal Register in accordance with 5 U.S.C. 552(a) and 1 CFR part 51. Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

(f) This amendment becomes effective on March 23, 2000.

Issued in Renton, Washington, on February 10, 2000.
Donald L. Riggin,
Acting Manager, Transport Airplane Directorate, Aircraft Certification Service.

[FR Doc. 00-3619 Filed 2-16-00; 8:45 am]

BILLING CODE 4910-13-P